OFFICE OF NATIONAL DRUG CONTROL POLICY

Appointment of Members of Senior Executive Services Performance Review Board

AGENCY: Office of National Drug Control Policy [ONDCP].

ACTION: Notice of appointments.

SUMMARY: The following persons have been appointed to the ONDCP Senior Executive Service Performance Review Board: Mr. Jeffrey Teitz, Dr. Terry Zobeck, Ms. Martha Gagne, and Mr. Gerard Burns.

FOR FURTHER INFORMATION CONTACT: Please direct any questions to Daniel R. Petersen, Deputy General Counsel (202) 395-6745, Office of National Drug Control Policy, Executive Office of the President, Washington, DC 20503.

Daniel R. Petersen,
Deputy General Counsel.

[FR Doc. 2013-12248 Filed 5-22-13; 8:45 am]

BILLING CODE 3180-02-P